DEPARTMENT OF LABOR

Employment and Training Administration

Amended Certification Regarding Eligibility To Apply for Worker Adjustment Assistance

TA-W-82,678

Cannon Equipment,

Carts Department, A Subsidiary of IMI Americas, Inc., Including On-Site Leased Workers From Aerotek And The Work Connection, Rosemount, Minnesota

TA-W-82,678A

Cannon Equipment, A Subsidiary of IMI Americas, Inc., Including On-Site Leased Workers From Aerotek And The Work Connection, Cannon Falls, Minnesota

In accordance with Section 223 of the Trade Act of 1974, as amended (“Act”), 19 U.S.C. 2273, the Department of Labor issued a Certification of Eligibility to Apply for Worker Adjustment Assistance on May 16, 2013, applicable to workers of Cannon Equipment Carts Department, a subsidiary of IMI Americas, Inc., including on-site leased workers from Aerotek and The Work Connection, Rosemount, Minnesota. The notice was published in the Federal Register on May 30, 2013 (78 FR 32467).

At the request of the Minnesota State agency, the Department reviewed the certification for workers of the subject firm. As the result of an earlier corporate decision, all production and employees of the Rosemount Minnesota location of Cannon Equipment, a subsidiary of IMI Americas, Inc. were shifted to the Cannon Falls, Minnesota location of the subject firm in order to improve the firm's competitiveness and profitability. Both locations experienced worker separations during the relevant time period due to an increase of imports of articles.

Accordingly, the Department is amending the certification to include workers of the Cannon Falls, Minnesota location of Cannon Equipment, a subsidiary of IMI Americas, Inc.

The intent of the Department's certification is to include all workers of the subject firm who were adversely affected by imports of articles.

The amended notice applicable to TA-W-82,678 is hereby issued as follows:

All workers from Cannon Equipment, Carts Department, a subsidiary of IMI Americas, Inc., including on-site leased workers from Aerotek and The Work Connection, Rosemount, Minnesota (TA-W-82,678) and Cannon Equipment, a subsidiary of IMI Americas, Inc., including on-site leased workers from Aerotek and The Work Connection, Cannon Falls, Minnesota (TA-W-82,678A) who became totally or partially separated from employment on or after April 19, 2012 through May 16, 2015, and all workers in the group threatened with total or partial separation from employment on date of certification through two years from the date of certification, are eligible to apply for adjustment assistance under Chapter 2 of Title II of the Trade Act of 1974, as amended.

Signed at Washington, DC, this 13th day of June 2013.
Michael W. Jaffe,
Certifying Officer, Office of Trade Adjustment Assistance.

[FR Doc. 2013-15738 Filed 7-1-13; 8:45 am]

BILLING CODE 4510-FN-P